DEPARTMENT OF THE TREASURY

United States Mint

Establish Price Increases for 2020 United States Mint Numismatic Products

AGENCY: United States Mint, Department of the Treasury.

ACTION: Notice.

SUMMARY: The United States Mint is announcing pricing for United States Mint numismatic products in accordance with the table below:

Product | 2020 Retail Price
2020 United States Mint American Innovation™ Four-Coin Proof Set | $24.00
2020 Native American $1 Coin & Currency Set | 34.50
2020 United States Mint Limited Edition Silver Proof Set ™ | 170.00
2020 United States Mint Silver Proof Set® | 63.25
2020 United States Mint ATB Quarters Uncirculated Set ™ | 16.00
2020 United States Mint ATB Quarters Circulating Set ™ | 10.00
2020 United States Mint Kennedy Half-Dollar 200-Coin Bag | 147.00
2020 United States Mint Kennedy Half-Dollar Two-Roll Set | 34.50
2020 United States Mint Uncirculated Coin Set® | 25.25
End of WWII 75th Anniversary Silver Medal | 46.00
End of WWII 75th Anniversary Bronze Medal | 6.95
2020 American Eagle One Ounce Silver Uncirculated Coin | 54.00
2020 American Eagle One Ounce Silver Uncirculated Coin-Bulk Pack | 2,160.00
2020 America the Beautiful Five Ounce Silver Uncirculated Coin | 178.25
2020 United States Mint America The Beautiful Quarters Three-Coin Set ™ | 11.50
2020 United States Mint Coin Roll Collector Box | 16.50

FOR FURTHER INFORMATION CONTACT: Katrina McDow, Marketing Specialist, Sales and Marketing; United States Mint; 801 9th Street NW; Washington, DC 20220; or call 202-354-8495.

(Authority: 31 U.S.C. 5111, 5112, 5132, & 9701)

Eric Anderson,
Executive Secretary, United States Mint.

[FR Doc. 2020-08082 Filed 4-16-20; 8:45 am]

BILLING CODE P